DEPARTMENT OF THE TREASURY

Office of Foreign Assets Control

Unblocking of a Specially Designated National and Blocked Person Pursuant to Executive Order 13566

AGENCY: Office of Foreign Assets Control, Treasury.

ACTION: Notice.

SUMMARY: The Treasury Department's Office of Foreign Assets Control (OFAC) is removing the name of one individual whose property and interests in property have been unblocked pursuant to Executive Order 13566 of February 25, 2011, “Blocking Property and Prohibiting Certain Transactions Related to Libya.”

DATES: OFAC's actions described in this notice are effective September 11, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Action

On September 11, 2014, OFAC unblocked the property and interests in property of the following individual pursuant to E.O. 13566, “Blocking Property and Prohibiting Certain Transactions Related to Libya.” All property and interests in property of the individual that are in or hereafter come within the United States or the possession or control of United States persons are now unblocked.

Individual

1. SANDERS, Dalene; DOB 14 Dec 1970; citizen South Africa; National ID No. 7012140235084 (South Africa) (individual) [LIBYA2] (Linked To: GADDAFI, Saadi)

Dated: September 11, 2014.
Adam J. Szubin,
Director, Office of Foreign Assets Control.

[FR Doc. 2014-22155 Filed 9-16-14; 8:45 am]

BILLING CODE 4810-AL-P